DEPARTMENT OF COMMERCE

International Trade Administration

[A-570-010]

Certain Crystalline Silicon Photovoltaic Products From the People's Republic of China: Final Results of Antidumping Duty Administrative Review and Final Determination of No Shipments; 2014-2016

AGENCY: Enforcement and Compliance, International Trade Administration, Department of Commerce.

SUMMARY: On March 7, 2017, the Department of Commerce (the Department) published the preliminary results of the first administrative review (AR) of the antidumping duty (AD) order on certain crystalline silicon photovoltaic products from the People's Republic of China (PRC). The period of review (POR) for the AR is July 31, 2014, through January 31, 2016. The AR covers nine companies including one mandatory respondent. We received comments from interested parties on our preliminary results. Based on our analysis of the comments received, we made changes to the margin calculations for the final results of this AR. The final weighted-average dumping margins are listed below in the “Final Results of Review” section of this notice.

DATES: Effective July 12, 2017.

FOR FURTHER INFORMATION CONTACT: Aleksandras Nakutis, AD/CVD Operations, Office IV, Enforcement & Compliance, International Trade Administration, Department of Commerce, 1401 Constitution Avenue NW., Washington, DC 20230; telephone: (202) 482-3147.

SUPPLEMENTARY INFORMATION:

Background

On March 7, 2017, the Department published in the Federal Register the preliminary results of the 2014-2016 AR of the antidumping duty order on certain crystalline silicon photovoltaic products from the PRC.¹ For events subsequent to the Preliminary Results, see the Department's Issues and Decision Memorandum.²

¹ See Certain Crystalline Silicon Photovoltaic Products from the People's Republic of China: Preliminary Results of Antidumping Duty Administrative Review and Preliminary Determination of No Shipments; 2014-2016, 82 FR 12793 (March 7, 2017) (Preliminary Results) and accompanying Preliminary Decision Memorandum (PDM).

² See Memorandum, “Issues and Decision Memorandum for the Final Results of the 2014-2016 Antidumping Duty Administrative Review of Crystalline Silicon Photovoltaic Products From the People's Republic of China,” (Issues and Decision Memorandum), dated concurrently with this notice.

Scope of the Order

The merchandise covered by the order is modules, laminates and/or panels consisting of crystalline silicon photovoltaic cells, whether or not partially or fully assembled into other products, including building integrated materials.³ Merchandise covered by the order is currently classified in the Harmonized Tariff Schedule of the United States (HTSUS) under subheadings 8501.61.0000, 8507.20.8030, 8507.20.8040, 8507.20.8060, 8507.20.8090, 8541.40.6020, 8541.40.6030 and 8501.31.8000. These HTSUS subheadings are provided for convenience and customs purposes; the written description of the scope of the order is dispositive.

³ For a complete description of the scope of the order, see Issues and Decision Memorandum.

Analysis of Comments Received

All issues raised in the case and rebuttal briefs filed by parties in this review are addressed in the Issues and Decision Memorandum, which is hereby adopted by this notice. A list of the issues that parties raised, and to which we responded in the Issues and Decision Memorandum, follows as an appendix to this notice. The Issues and Decision Memorandum is a public document and is on file electronically via Enforcement and Compliance's Antidumping and Countervailing Duty Centralized Electronic Service System (ACCESS). ACCESS is available to registered users at https://access.trade.gov and to all parties in the Central Records Unit, room B8024 of the main Department of Commerce building. In addition, a complete version of the Issues and Decision Memorandum can be accessed directly on the Internet at http://enforcement.trade.gov/frn/. The paper copy and electronic version of the Issues and Decision Memorandum are identical in content.

Changes Since the Preliminary Results

Based on a review of the record and comments received from interested parties regarding our Preliminary Results, and for the reasons explained in the Issues and Decision Memorandum, we made revisions to our preliminary calculations of the weighted-average dumping margins for the mandatory respondent, Trina.4 5

⁴ In these final results of review, the Department has continued to treat the following six companies as a single entity: Changzhou Trina Solar Energy Co., Ltd./Trina Solar (Changzhou) Science & Technology Co., Ltd./Yancheng Trina Solar Energy Techology Co., Ltd./Changzhou Trina Solar Yabang Energy Co., Ltd./Turpan Trina Solar Energy Co., Ltd./Hubeui Trina Solar Energy Co., Ltd. (Collectively, Trina). See Preliminary Results, 82 FR 12793 (March 7, 2017) and PDM at 6.

⁵ See Issues and Decision Memorandum at comments 6, 8, 9, and 11.

Final Determination of No Shipments

In the Preliminary Results, we found that one company, JA Solar Technology Co., Ltd. (JA Solar), had no shipments during the POR.⁶ Consistent with the Department's assessment practice in NME cases, we completed the review with respect to JA Solar.⁷ The Department placed on the record a memorandum regarding JA Solar's no shipment claim and shipment data from U.S. Customs and Border Protection (CBP).⁸ On May 1, 2017, JA Solar timely submitted comments regarding the Department's memorandum on JA Solar's no shipment claim. No parties submitted rebuttal comments regarding JA Solar's no shipment claim. For these final results, we continue to find that JA Solar had no shipments during the POR. As noted in the “Assessment” section below, the Department will issue appropriate instructions with respect to this company to CBP based on our final results.⁹ In addition, JA Solar will maintain its dumping margin from the most recently completed segment of this proceeding in which it participated.

⁶ See Preliminary Results.

⁷ See Non-Market Economy Antidumping Proceedings: Assessment of Antidumping Duties, 76 FR 65694, 65694-95 (October 24, 2011) (Assessment of Antidumping Duties).

⁸ See memorandum to interested parties re: “Certain Crystalline Silicon Photovoltaic Products from the People's Republic of China: Shanghai JA Solar Technology Co., Ltd.'s No-shipment Claim and Release of U.S. Customs and Border Protection Information Relating to No Shipment Claims Made in the 2014-2016 Administrative Review of Certain Crystalline Silicon Photovoltaic Products from the People's Republic of China,” dated April 25. 2017.

⁹ See Assessment of Antidumping Duties; see also the “Assessment” section of this notice, below.

Separate Rates

In the Preliminary Results, the Department determined that Trina, and seven other companies demonstrated their eligibility for separate rates.¹⁰ No parties commented on this preliminary decision. For these final results, we continue to find that the eight companies listed in the table in the “Final Results” section of this notice are eligible for separate rates status. The Department assigned a dumping margin to the separate rate companies that it did not individually examine, but which demonstrated their eligibility for a separate rate, based on the mandatory respondent's dumping margin.¹¹

¹⁰ See Preliminary Results.

¹¹ See Memorandum, “Calculation of the Final Dumping Margin for Separate Rate Recipients,” dated concurrently with this notice.

Final Results of Review

We determine that the following weighted-average dumping margins exist for the POR:

Exporter | Weighted-average dumping margin
Changzhou Trina Solar Energy Co., Ltd./Trina Solar (Changzhou) Science and Technology Co., Ltd./Yangcheng Trina Solar Energy Co., Ltd./Turpan Trina Solar Energy Co., Ltd./Hubei Trina Solar Energy Co., Ltd. | 9.61
BYD (Shangluo) Industrial Co., Ltd | 9.61
Chint Solar (Zhejiang) Co., Ltd | 9.61
Hefei JA Solar Technology Co., Ltd | 9.61
Perlight Solar Co., Ltd | 9.61
Shenzhen Sungold Solar Co., Ltd | 9.61
Sunny Apex Development Ltd | 9.61
Wuxi Suntech Power Co., Ltd | 9.61

Because no party requested a review of the PRC-wide entity and the Department no longer considers the PRC-wide entity as an exporter conditionally subject to administrative reviews,¹² we did not conduct a review of the PRC-wide entity. Thus, the weighted-average dumping margin for the PRC-wide entity (i.e., 165.04 percent) is not subject to change as a result of this review.¹³

¹² See Antidumping Proceedings: Announcement of Change in Department Practice for Respondent Selection in Antidumping Duty Proceedings and Conditional Review of the Nonmarket Economy Entity in NME Antidumping Duty Proceedings, 78 FR 65963, 65969-70 (November 4, 2013).

¹³ See Certain Silicon Photovoltaic Products from the People's Republic of China: Antidumping Duty Order; and Amended Final Affirmative Countervailing Duty Determination and Countervailing Duty Order, 80 FR 8592 (February 18, 2015).

Assessment

The Department will determine, and CBP shall assess, antidumping duties on all appropriate entries covered by this review. The Department intends to issue assessment instructions to CBP 15 days after the publication date of these final results of review. In accordance with 19 CFR 351.212(b)(1), we are calculating importer- (or customer-) specific assessment rates for the merchandise subject to this review. For any individually examined respondent whose weighted-average dumping margin is above de minimis (i.e., 0.50 percent), the Department will calculate importer- (or customer)-specific assessment rates for merchandise subject to this review. Where the respondent reported reliable entered values, the Department calculated importer- (or customer)-specific ad valorem rates by aggregating the dumping margins calculated for all U.S. sales to the importer- (or customer) and dividing this amount by the total entered value of the sales to the importer- (or customer).¹⁴ Where the Department calculated an importer- (or customer)-specific weighted-average dumping margin by dividing the total amount of dumping for reviewed sales to the importer- (or customer) by the total sales quantity associated with those transactions, the Department will direct CBP to assess importer- (or customer)-specific assessment rates based on the resulting per-unit rates.¹⁵ Where an importer- (or customer)- specific ad valorem or per-unit rate is greater than de minimis, the Department will instruct CBP to collect the appropriate duties at the time of liquidation. Where either the respondent's weighted average dumping margin is zero or de minimis, or an importer (or customer-) specific ad valorem or per-unit rate is zero or de minimis, the Department will instruct CBP to liquidate appropriate entries without regard to antidumping duties.¹⁶

¹⁴ See 19 CFR 351.212(b)(1).

¹⁵ Id.

¹⁶ See Antidumping Proceedings: Calculation of the Weighted-Average Dumping Margin and Assessment Rate in Certain Antidumping Duty Proceedings; Final Modification, 77 FR 8101, 8103 (February 14, 2012).

For merchandise whose sale/entry was not reported in the U.S. sales database submitted by an exporter individually examined during this review, but that entered under the case number of that exporter (i.e., at the individually-examined exporter's cash deposit rate), the Department will instruct CBP to liquidate such entries at the PRC-wide rate. Additionally, if the Department determines that an exporter under review had no shipments of the subject merchandise, any suspended entries that entered under that exporter's case number will be liquidated at the PRC-wide rate.¹⁷

¹⁷ See Non-Market Economy Antidumping Proceedings: Assessment of Antidumping Duties, 76 FR 65694 (October 24, 2011), for a full discussion of this practice.

Cash Deposit Requirements

The following cash deposit requirements will be effective upon publication of these final results of review for shipments of the subject merchandise from the PRC entered, or withdrawn from warehouse, for consumption on or after the publication date, as provided by section 751(a)(2)(C) of the Act: (1) For the companies listed above the cash deposit rate will be their respective rate established in the final results of this review; (2) for previously investigated PRC and non-PRC exporters not listed above that have separate rates, the cash deposit rate will continue to be the exporter-specific rate published for the most recent period; (3) for all PRC exporters of subject merchandise which have not been found to be entitled to a separate rate, the cash deposit rate will be the rate for the PRC-wide entity (i.e., 165.04 percent); and (4) for all non-PRC exporters of subject merchandise which have not received their own rate, the cash deposit rate will be the rate applicable to the PRC exporter that supplied that non-PRC exporter. These deposit requirements, when imposed, shall remain in effect until further notice.

Disclosure

We intend to disclose the calculations performed for these final results within five days of publication of this notice in the Federal Register in accordance with 19 CFR 351.224(b).

Notification to Importers Regarding the Reimbursement of Duties

This notice also serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Notification Regarding Administrative Protective Orders (APO)

This notice also serves as a reminder to parties subject to APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

This notice of the final results of this antidumping duty administrative review is issued and published in accordance with sections 751(a)(1) and 777(i) of the Act and 19 CFR 351.213 and 19 CFR 351.221(b)(5).

Dated: July 5, 2017.
Carole Showers,
Executive Director, Office of Policy, performing the duties of the Deputy Assistant Secretary for Enforcement and Compliance.

Appendix—List of Topics Discussed in the Issues and Decision Memorandum

Summary

Background

Scope of the Order

List of Abbreviations and Acronyms

Discussion of the Issues

Comment 1: Scope of the Order

(A) The Scope of the Order Is Unlawful

(B) The Final Scope Determination Does Not Apply Retroactively

Comment 2: CVD Export Subsidies

Comment 3: Use of Zero Import Quantity

Comment 4: Use of Differential Pricing Analysis

Comment 5: Surrogate Value for Aluminum Frames

Comment 6: Surrogate Value for Scrap Modules

Comment 7: Exclusion of Certain Sales in the Calculation of Dumping Margin

Comment 8: Warranty Expenses

Comment 9: Debt Restructuring Income

Comment 10: Surrogate Value for Module Glass

Comment 11: Selection of Financial Statements

Comment 12: JA Solar Technology Co., Ltd.'s No Shipments Claim

[FR Doc. 2017-14611 Filed 7-11-17; 8:45 am]

BILLING CODE 3510-DS-P